DEPARTMENT OF TRANSPORTATION

Federal Aviation Administration

Air Traffic Procedures Advisory Committee

AGENCY: Federal Aviation Administration (FAA), DOT.

ACTION: Notice of meeting.

SUMMARY: The FAA is issuing this notice to advise the public that a meeting of the Federal Aviation Administration Air Traffic Procedures Advisory Committee (ATPAC) will be held to review present air traffic control procedures and practices for standardization, revision, clarification, and upgrading of terminology and procedures.

DATES: The meeting will be held Tuesday, February 23, 2016 from 12:45 p.m. to 4:30 p.m., and Wednesday, February 24, 2016 from 8:45 a.m. to 4:30 p.m.

ADDRESSES: The meeting will be held at CGH Technologies, Inc., 600 Maryland Ave SW., Suite 800W, Washington, DC 20024.

FOR FURTHER INFORMATION CONTACT: Ms. Heather Hemdal, ATPAC Executive Director, 600 Independence Avenue SW., Washington, DC 20591.

SUPPLEMENTARY INFORMATION: Pursuant to Section 10(a)(2) of the Federal Advisory Committee Act (Pub. L. 92-463; 5 U.S.C. App.2), notice is hereby given of a meeting of the ATPAC to be held Tuesday, February 23, 2016 from 12:45 p.m. to 4:30 p.m., and Wednesday, February 24, 2016 from 8:45 a.m. to 4:30 p.m.

The agenda for this meeting will cover a continuation of the ATPAC's review of present air traffic control procedures and practices for standardization, revision, clarification, and upgrading of terminology and procedures. It will also include:

1. Call for Safety Items

2. Approval of minutes of the previous meeting

3. Introduction of New Areas of Concern or Miscellaneous items

4. Items of Interest

5. Status updates to existing Areas of Concern

6. Discussion and agreement of location and dates for subsequent meetings.

Attendance is open to the interested public but limited to space available. With the approval of the Chairperson, members of the public may present oral statements at the meeting. Persons desiring to attend and persons desiring to present oral statements should notify Ms. Heather Hemdal no later than February 16, 2016. Any member of the public may present a written statement to the ATPAC at any time at the address given above.

Issued in Washington, DC, on December 16, 2015.
Heather Hemdal,
Executive Director, Air Traffic Procedures Advisory Committee.

[FR Doc. 2015-32156 Filed 12-21-15; 8:45 am]

BILLING CODE 4910-13-P